DEPARTMENT OF TRANSPORTATION

Office of the Secretary

Aviation Proceedings, Agreements Filed the Week Ending October 20, 2006

The following Agreements were filed with the Department of Transportation under the Sections 412 and 414 of the Federal Aviation Act, as amended (49 U.S.C. 1382 and 1384) and procedures governing proceedings to enforce these provisions. Answers may be filed within 21 days after the filing of the application.

Docket Number: OST-2006-26147.

Date Filed: October 20, 2006.

Parties: Members of the International Air Transport Association.

Subject: TC23/123 Middle East—TC3 Mail Vote 515, Special Passenger Amending Resolution 010d, From Iran to Afganistan (Memo 0310).

Intended Effective Date: 1 November 2006.

Renee V. Wright,
Program Manager, Docket Operations, Federal Register Liaison.

[FR Doc. E6-19031 Filed 11-8-06; 8:45 am]

BILLING CODE 4910-9X-P